CONSUMER PRODUCT SAFETY COMMISSION

[Docket No. CPSC-2010-0038]

Agency Information Collection Activities; Proposed Collection; Comment Request; Third Party Testing of Children's Products

AGENCY: Consumer Product Safety Commission.

ACTION: Notice of Information Collection; Request for Comment.

SUMMARY: As required by the Paperwork Reduction Act of 1995 (PRA), the Consumer Product Safety Commission (CPSC or Commission) requests comments on a proposed extension of approval of a collection of information for Third Party Testing of Children's Products. The Office of Management and Budget (OMB) previously approved the collection of information under control number 3041-0159. The CPSC will consider all comments received in response to this notice before requesting an extension of this collection of information OMB.

DATES: Submit comments on the collection of information by September 9, 2025.

ADDRESSES: You may submit comments, identified by Docket No. CPSC-2010-0038, by any of the following methods:

Electronic Submissions: Submit electronic comments to the Federal eRulemaking Portal at: https://www.regulations.gov. Follow the instructions for submitting comments. CPSC typically does not accept comments submitted by email, except through www.regulations.gov. CPSC encourages you to submit electronic comments by using the Federal eRulemaking Portal, as described above.

Mail/Hand Delivery/Courier/Confidential Written Submissions: Submit comments by mail, hand delivery, or courier to: Office of the Secretary, Consumer Product Safety Commission, 4330 East-West Highway, Bethesda, MD 20814; (301) 504-7479. If you wish to submit confidential business information, trade secret information, or other sensitive or protected information that you do not want to be available to the public, you may submit such comments by mail, hand delivery, or courier, or you may email them to: cpsc-os@cpsc.gov.

Instructions: All submissions must include the agency name and docket number. CPSC may post all comments without change, including any personal identifiers, contact information, or other personal information provided, to https://www.regulations.gov. Do not submit through this website: Confidential business information, trade secret information, or other sensitive or protected information that you do not want to be available to the public. If you wish to submit such information, please submit it according to the instructions for mail/hand delivery/courier/confidential written submissions.

Docket: For access to the docket to read background documents or comments received, go to: https://www.regulations.gov, and insert the docket number, CPSC-2010-0038, into the “Search” box, and follow the prompts.

FOR FURTHER INFORMATION CONTACT: Cynthia Gillham, Consumer Product Safety Commission, 4330 East-West Highway, Bethesda, MD 20814; (301) 504-7791, or by email to: pra@cpsc.gov.

SUPPLEMENTARY INFORMATION: CPSC seeks to renew the following currently approved collection of information:

Title: Third Party Testing of Children's Products.

OMB Number: 3041-0159.

Type of Review: Renewal of collection of information for third party testing of children's products, which includes: (1) previously approved burden for marking and labeling of certain durable infant and toddler products; (2) the labeling and recordkeeping requirements (not covered by the Commission's third party testing rule at 16 CFR part 1107) set forth in the rule establishing requirements for electrically operated toys or other electrically operated articles intended for children (16 CFR part 1505) (electrically operated toys and other articles rule); (3) recordkeeping and labeling requirements set forth in the ban on articles known as “baby bouncers” or “walker-jumpers” (baby bouncer/walker-jumper rule, 16 CFR 1500.18(a)(6) and 1500.86(a)(4)), or similar articles that are not covered by the safety standard for infant walkers (16 CFR part 1216) and that also are not covered by the third party testing rule or any other rule issued under section 104 of the Consumer Product Safety Improvement Act; (4) new children's product safety rules promulgated since the last renewal, including non-toy children's products containing button cell or coin batteries, children's clothing storage units, and non-toy children's products containing magnets, and (5) the addition of costs to eFile children's product certificates (CPCs) pursuant to the revision to 16 CFR part 1110 (90 FR 1800 (Jan. 8, 2025)). The Commission already expanded the scope of OMB Control No. 3041-0159 when it issued the final rule to revise part 1110 and the final rule for button cell or coin batteries; it is included in this renewal for completeness. As explained in this notice, the requirement to eFile most certificates does not begin until July 8, 2026.

General Description of Collection

Testing and Certification: On November 8, 2011, the Commission issued two rules for implementing third party testing and certification of children's products, as required by section 14 of the Consumer Product Safety Act (CPSA):

• Testing and Labeling Pertaining to Product Certification (76 FR 69482, codified at 16 CFR part 1107; the testing rule); and

• Conditions and Requirements for Relying on Component Part Testing or Certification, or Another Party's Finished Product Testing or Certification to Meet Testing and Certification Requirements (76 FR 69547, codified at 16 CFR part 1109; the component part rule).

The testing rule establishes requirements for manufacturers to conduct initial third party testing and certification of children's products, testing when there has been a material change in the product, continuing testing (periodic testing), and guarding against undue influence. A final rule on Representative Samples for Periodic Testing of Children's Products (77 FR 72205, Dec. 5, 2012) amended the testing rule to require that representative samples be selected for periodic testing of children's products.

The component part rule is a companion to the testing rule that is intended to reduce third party testing burdens, by providing all parties involved in the required testing and certifying of children's products the flexibility to conduct or rely upon testing where testing is the easiest and least expensive to accomplish. Certification of a children's product can be based upon one or more of the following: (a) component part testing; (b) component part certification; (c) another party's finished product testing; or (d) another party's finished product certification.

Section 1107.26 of the testing rule states the records required for testing and selecting representative samples. 16 CFR 1107.26. Required records include a certificate and records documenting third party testing and related sampling plans. These requirements largely overlap the recordkeeping requirements in the component part rule, codified at 16 CFR 1109.5(g). Duplicate recordkeeping is not required; records need to be created and maintained only once to meet the applicable recordkeeping requirements. The component part rule also requires records that enable tracing a product or component back to the entity that had a product tested for compliance; the rule also requires attestations of due care to ensure test result integrity.

Because these records largely overlap, for this renewal, CPSC is streamlining the burden analysis and combining all recordkeeping for testing and certification into one estimate, as explained further in this notice.

New Children's Product Rules: Since the last renewal of this collection of information, CPSC has issued four children's product rules (not including rules issued under section 104 of the Consumer Product Safety Improvement Act of 2008 CPSIA) that contain testing, marking, labeling, and certification requirements for children's products: (1) Safety Standard for Clothing Storage Units (CSUs) (16 CFR part 1261); Safety Standard for Magnets (16 CFR part 1262) (does not contain labeling requirements); Safety Standard for Button Cell or Coin Batteries and Consumer Products Containing Such Batteries (Button Battery) (16 CFR part 1263); and (4) Marking of Toy, Look-Alike, and Imitation Firearms (16 CFR part 1272; PRA burden addressed in 16 CFR part 1250). In this renewal the burden estimate for children's CSUs and non-toy children's products containing magnets is included in this collection of information. The Button Battery rule already expanded this collection of information to include the certification and labeling of non-toy children's products that contain button batteries, and it is listed here for completeness. Toy imitation firearms are already included in this collection pursuant to section 4.30 of ASTM F963, as required in 16 CFR part 1250. The burden estimate for these new rules is included in the analysis under the Testing and Certification.

Section 104 Rules: The Commission has issued 28 rules for durable infant and toddler products under section 104 of the Consumer Product Safety Improvement Act of 2008 (CPSIA), codified in 15 U.S.C. 2056a (section 104 rules). Section 104 rules that have been issued, to date, appear in Table 2. Each section 104 rule contains requirements for marking, labeling, and instructional literature:

• Each product and the shipping container must have a permanent label or marking that identifies the name and address (city, state, and zip code) of the manufacturer, distributor, or seller.

• A permanent code mark or other product identification shall be provided on the product and its package or shipping container, if multiple packaging is used. The code will identify the date (month and year) of manufacture and permit future identification of any given model.

Each standard also requires products to include easy-to-read and understandable instructions regarding assembly, maintenance, cleaning, use, and adjustments, where applicable. See, e.g., sections 8 (marking and labeling) and 9 (instructional literature) of every ASTM voluntary standard incorporated by reference into a CPSC mandatory standard, as listed in Table 2.

OMB has assigned control numbers for the estimated burden to comply with marking and labeling requirements in each section 104 rule. With this renewal, CPSC is moving the marking and labeling burden requirements for two additional section 104 rules that have been issued since the last renewal in 2022, into the collection of information for Third Party Testing of Children's Products (bold font in Table 2). The paperwork burdens associated with the section 104 rules are appropriately included in the collection for Third Party Testing of Children's Products because all the section 104 products are also required to be third party tested. Having all the burden hours under one collection for children's products provides one OMB control number and eases the administrative burden of renewing multiple collections. CPSC will discontinue using the OMB control numbers currently assigned to individual section 104 rules. The discontinued OMB control numbers are listed in Table 2.

eFiling Revision to 16 CFR part 1110: Section 14(a) of the CPSA requires that manufacturers (including importers) and private labelers issue certificates for all consumer products subject to a consumer product safety rule under the CPSA, or a similar rule, ban, standard, or regulation under any other law enforced by the Commission, that are imported for consumption or warehousing or distributed in commerce. 15 U.S.C. 2052(a)(11)-(12); 15 U.S.C. 2063(a)(1). Children's products introduced to the U.S. market must have a Children's Product Certificate (CPC), which, if imported, must be electronically filed with U.S. Customs and Border Protection at the time of filing entry. The final rule revising part 1110 details the eFiling requirement and the burden of eFiling CPCs. 90 FR 1800, 1838-39 (Jan. 8, 2025). For most imported products, the effective date of this requirement is July 8, 2026. Products imported from a Foreign Trade Zone (FTZ) must comply with the eFiling requirement by January 8, 2027.

Electrically Operated Toys and Other Articles: The requirements for electrically operated toys and other electrically operated articles intended for use by children are set forth in 16 CFR part 1505. The regulation establishes certain criteria to use in determining whether electrically operated toys and other electrically operated children's products are banned and requires that certain warning and identification labeling be included on both the product and the packaging. The regulation also requires that manufacturers establish a quality assurance program to assure compliance and to keep records pertaining to the quality assurance program. Additionally, manufacturers or importers must keep records of the sale and distribution of the products.

Baby-Bouncer/Walker-Jumper Rule: The requirements for baby bouncers, baby walkers, and similar articles that are not covered by 16 CFR part 1216 (Safety Standard for Infant Walkers) are set forth under 16 CFR 1500.18(a)(6) and 1500.86(a)(4). These regulations establish criteria to use in determining whether certain baby-bouncers, walker-jumpers, or similar products are banned. The regulation requires that each product be labeled with information that will permit future identification by the manufacturer of the particular model of bouncer or walker-jumper. In addition, manufacturers must maintain records of sales, distribution, and results of tests and inspections for three years and make such records available to CPSC, upon request. Products covered under this regulation are not duplicative of an existing section 104 rule.

Frequency of Response: On occasion.

Affected Public: Manufacturers, private labelers, and importers of children's products subject to a children's product safety rule.

Estimated Number of Respondents:

Testing and Certification of Children's Products: Recordkeeping requirements in parts 1107 and 1109 apply to all manufacturers, importers, and private labelers of children's products that are covered by one or more children's product safety rules promulgated and/or enforced by the CPSC.

To estimate the number of respondents, CPSC staff reviewed every industry category in the NAICS and selected industry categories that included firms that could manufacture or sell children's products that are regulated by CPSC and require testing and certification. Using data from the U.S. Census Bureau,¹ CPSC determined that there were approximately 20,100 manufacturers, about 106,700 wholesalers, and about 263,800 retailers in these NAICS categories. Accordingly, there are approximately 390,600 annual respondents. Note, however, these categories also include many non-children's products, which are not covered by any children's product safety rules. Therefore, these numbers would constitute an overestimate of the number of establishments that are subject to the PRA requirements and therefore constitute a high estimate of the number of firms that are subject to the recordkeeping requirements. Table 1 sets forth the burden estimate for all children's product safety rules that are not rules under section 104 of the CPSIA, estimating an average annual hourly burden of 5,037,900 hours.

¹ All Sectors: County Business Patterns, including ZIP Code Business Patterns, by Legal Form of Organization and Employment Size Class for the U.S., States, and Selected Geographies: 2022, Census—Table Results for Table ID CB2200CBP. The list of all children's product safety rules covered by this burden analysis appears in Appendix A of the Supporting Statement posted on Regulations.gov under Docket No. CPSC-2010-0038.

Section 104 Rules: Table 2 summarizes the section 104 rules for durable infant or toddler products subject to the marking and labeling requirement that have been or are now being moved into OMB control number 3041-0159. The two new section 104 rules being moved into this information collection are shown in bold text. Table 2 also contains the estimated number of manufacturers and models and the total respondent hours, estimating 6,338 respondents for section 104 Rules, with an estimated annual hourly burden of 97,968 hours.

eFiling Requirements: As shown in Table 3, the final rule to revise part 1110 estimates that 224,000 importers of children's products will annually eFile Children's Product Certificates (CPCs) with an estimated annual 209,462 hourly burden. 90 FR 1800, 1838-39 (Table 14).

Electrically Operated Toys and Other Articles Rule: CPSC staff estimates that about 40 entities will respond to this collection annually.

Baby-Bouncer/Walker-Jumper Rule: CPSC staff estimates that about six entities will respond to the testing and recordkeeping requirements of this regulation annually.

Estimated Time per Response

Testing and Certification: An average of three hours per year will be needed for each response. The PRA burden will vary greatly from respondent to respondent, depending upon factors that are out of CPSC's control and at the discretion of the establishment. For example, respondents that regularly change their product may spend more time on testing and certification and the associated recordkeeping, while respondents that utilize the component part rule effectively, or that continuously manufacture the same product, may spend less time responding to the collection.

Section 104 Rules: Each section 104 rule contains a similar analysis for marking and labeling that estimates the time to make any necessary changes to marking and labeling requirements at 1 hour per model. Some section 104 rules also contain requirements for instructional literature, and estimates are included for instructional literature in this analysis, where required.

eFiling Requirements: The average filing takes roughly 22 seconds (or 0.0062 hours) across filing modes.

Electrically Operated Toys and Other Articles Rule: Products subject to this regulation are also subject to the requirements of the testing rule. Therefore, the burden of any duplicative recordkeeping requirements will not be reported here to avoid double-counting the burden. CPSC staff estimates that the additional burden imposed by this regulation over that imposed by the testing rule is 1.5 hours (30 minutes per response to maintain sales and distribution records for recordkeeping, and 1 hour to make labeling changes).

Baby-Bouncer/Walker-Jumper Rule: CPSC staff estimates that respondents will spend 2 hours per response (1 hour on recordkeeping requirements, and 1 hour on labeling requirements).

Total Estimated Annual Burden

Adding the total estimated recordkeeping burden for testing and certification (5,037,900 hours), marking and labeling for 104 Rules (97,968 hours), eFiling CPCs (209,462 hours), electrically operated toys (750 hours), and baby bouncer/walker-jumpers (24 hours) the total estimated annual burden of the collection is 5,346,104 hours.

At $41.59 (U.S. Bureau of Labor Statistics, “Employer Costs for Employee Compensation,” March 2025, Table 4, total compensation for all sales and office workers in goods-producing private industries: https://www.bls.gov/news.release/archives/ecec_06132025.htm) hourly compensation rate, the total cost of the information collection is approximately $222.3 million (5,346,104 hours × $41.59 = $222,344,465.36).

Table 1—Estimated Burden for Testing and Certification
Respondents | Number of responses | Frequency of response | Duration of response (in hours) | Average hourly response burden
Manufacturers | 20,100 | 2 | 3 | 120,600
Wholesalers | 106,700 | 3 | 3 | 960,300
Retailers | 263,800 | 5 | 3 | 3,957,000
Total | 390,600 |  |  | 5,037,900

Table 2—Estimated Burden for Marking and Labeling in Section 104 Rules
Discontinued OMB control No. | 16 CFR part | Description | Mfrs. | Models | Total respondent hours
3041-0145 | 1215 | Safety Standard for Infant Bath Seats | 12 | 2 | 24
3041-0141 | 1216 | Safety Standard for Infant Walkers | 19 | 4 | 76
3041-0150 | 1217 | Safety Standard for Toddler Beds | 111 | 10 | 1,110
3041-0157 | 1218 | Safety Standard for Bassinets and Cradles | 72 | 4 | 288
3041-0147 | 1219 | Safety Standard for Full-Size Cribs | 80 | 13 | 1,040
3041-0147 | 1220 | Safety Standard for Non-Full-Size Cribs | 39 | 2 | 78
3041-0152 | 1221 | Safety Standard for Play Yards | 34 | 4 | 136
3041-0160 | 1222 | Safety Standard for Infant Bedside Sleepers | 13 | 2 | 26
3041-0155 | 1223 | Safety Standard for Swings | 6 | 8 | 48
3041-0149 | 1224 | Safety Standard for Portable Bedrails | 18 | 2 | 36
3041-0158 | 1225 | Safety Standard for Hand-Held Infant Carriers | 78 | 2 | 156
3041-0162 | 1226 | Safety Standard for Soft Infant and Toddler Carriers | 44 | 3 | 132
3041-0164 | 1227 | Safety Standard for Carriages and Strollers | 100 | 7 | 700
3041-0167 | 1228 | Safety Standard for Sling Carriers | 1,000 | 2 | * 8,500
3041-0174 | 1229 | Safety Standard for Infant Bouncer Seats | 26 | 4 | 104
3041-0166 | 1230 | Safety Standard for Frame Child Carriers | 14 | 3 | 42
3041-0173 | 1231 | Safety Standard for High Chairs | 83 | 3 | 249
3041-0172 | 1232 | Safety Standard for Children's Folding Chairs and Stools | 17 | 2 | 34
3041-0170 | 1233 | Safety Standard for Hook-On-Chairs | 7 | 1 | 7
3041-0171 | 1234 | Safety Standard for Infant Bath Tubs | 27 | 2 | 54
3041-0175 | 1235 | Safety Standard for Baby Changing Products | 141 | 6 | 846
3041-0177 | 1236 | Safety Standard for Infant Sleep Products | 1,325 | 6,528 | * 68,650
3041-0178 | 1237 | Safety Standard for Booster Seats | 52 | 2 | 104
3041-0179 | 1238 | Safety Standard for Stationary Activity Centers | 11 | 4 | 44
3041-0182 | 1239 | Safety Standard for Gates and Enclosures | 127 | 3.6 | * 9,496
3041-0185 | 1241 | Safety Standard for Crib Mattresses | 38 | 10 | 380
3041-0197 | 1242 | Safety Standard for Nursing Pillows | 844 |  | 1,688
3041-0202 | 1243 | Safety Standard for Infant Support Cushions | 2,000 |  | 4,000
Total Burden Hours |  |  |  |  | 97,968
* Includes additional hours for instructional literature.

Table 3—Estimated Burden for Other Children's Product Requirements
Requirement | Number of respondents | Frequency of response | Estimated number of responses | Response time (in hours) | Burden hours
eFiling CPCs | 224,000 | 152 | 34,055,116 | .0062 | 209,462
Electrically Operated Toys and Other Artiles Rule | 50 | 10 | 500 | 1.5 | 750
Baby-Bouncer/Walker Jumper Rule | 6 | 2 | 12 | 2 | 24

Estimates of Other Total Annual Cost Burden to Respondents or Recordkeepers

Many importers use import brokers who charge a filing fee to facilitate customs filings and reporting with the government. Brokers typically charge a fee per entry or per entry line that is filed, and each entry line may contain one or more product certificates. The fees that brokers charge vary with the complexity of the Message Set and with the number of Message Sets filed.

Table 4 below presents an estimate of filing fees for CPCs. CPSC estimates that importers of children's products will file 28,555,603 annual message sets and expect filing fees for CPCs to total $21,987,815 annually.

Table 4—Estimate of Filing Fees for CPCs
Additional cost | Number of respondents (importers) | Number of filings with a fee | Total number of responses | Cost per response | Total burden cost
CPC Filing Fee | 224,000 | 127 | 28,555,603 | $0.77 | $21,987,815

Request for Comments

The Commission solicits written comments from all interested persons about the proposed renewal of this collection of information. The Commission specifically solicits information relevant to the following topics:

• Whether the collection of information described above is necessary for the proper performance of the Commission's functions, including whether the information would have practical utility;

• Whether the estimated burden of the proposed collection of information is accurate;

• Whether the quality, utility, and clarity of the information to be collected could be enhanced; and

• Whether the burden imposed by the collection of information could be minimized by use of automated, electronic or other technological collection techniques, or other forms of information technology.

Alberta E. Mills,
Secretary, Consumer Product Safety Commission.

[FR Doc. 2025-12979 Filed 7-10-25; 8:45 am]

BILLING CODE 6355-01-P